DEPARTMENT OF ENERGY

Federal Energy Regulatory Commission

Combined Notice of Filings #1

Take notice that the Commission received the following electric corporate filings:

Docket Numbers: EC25-51-000.

Applicants: Elwood Energy LLC, MPH Elwood, LLC.

Description: Joint Application for Authorization Under Section 203 of the Federal Power Act of Elwood Energy LLC, et al.

Filed Date: 2/14/25.

Accession Number: 20250214-5262.

Comment Date: 5 p.m. ET 3/7/25.

Docket Numbers: EC25-52-000.

Applicants: Palo Duro Wind Energy, LLC, Palo Duro Wind, LLC, Mammoth Plains Wind Project, LLC, Mammoth Plains Wind, LLC.

Description: Joint Application for Authorization Under Section 203 of the Federal Power Act of Palo Duro Wind Energy, LLC.

Filed Date: 2/14/25.

Accession Number: 20250214-5264.

Comment Date: 5 p.m. ET 3/7/25.

Docket Numbers: EC25-53-000.

Applicants: Cedar Bluff Wind Energy, LLC, Cedar Bluff Wind, LLC.

Description: Joint Application for Authorization Under Section 203 of the Federal Power Act of Cedar Bluff Wind, LLC, et al.

Filed Date: 2/14/25.

Accession Number: 20250214-5265.

Comment Date: 5 p.m. ET 3/7/25.

Docket Numbers: EC25-54-000.

Applicants: Seiling Wind II, LLC, Seiling Wind Energy II, LLC.

Description: Joint Application for Authorization Under Section 203 of the Federal Power Act of Seiling Wind II, LLC, et al.

Filed Date: 2/18/25.

Accession Number: 20250218-5129.

Comment Date: 5 p.m. ET 3/11/25.

Docket Numbers: EC25-55-000.

Applicants: Breckinridge Wind Project, LLC, Breckinridge Wind, LLC.

Description: Joint Application for Authorization Under Section 203 of the Federal Power Act of Breckinridge Wind Project, LLC, et al.

Filed Date: 2/18/25.

Accession Number: 20250218-5130.

Comment Date: 5 p.m. ET 3/11/25.

Take notice that the Commission received the following exempt wholesale generator filings:

Docket Numbers: EG25-142-000.

Applicants: Bronson Solar, LLC.

Description: Bronson Solar, LLC submits Errata to Notice of Self-Certification of Exempt Wholesale Generator Status.

Filed Date: 2/13/25.

Accession Number: 20250213-5103.

Comment Date: 5 p.m. ET 3/6/25.

Docket Numbers: EG25-145-000.

Applicants: Route 66 Energy Storage, LLC.

Description: Route 66 Energy Storage, LLC submits Errata to Notice of Self-Certification of Exempt Wholesale Generator Status.

Filed Date: 2/14/25.

Accession Number: 20250214-5146.

Comment Date: 5 p.m. ET 3/7/25.

Docket Numbers: EG25-146-000.

Applicants: Sky Ranch Energy Storage II, LLC.

Description: Sky Ranch Energy Storage II, LLC submits Errata to Notice of Self-Certification of Exempt Wholesale Generator Status.

Filed Date: 2/14/25.

Accession Number: 20250214-5144.

Comment Date: 5 p.m. ET 3/7/25.

Docket Numbers: EG25-155-000.

Applicants: MPH Elwood, LLC.

Description: MPH Elwood, LLC submits Notice of Self-Certification of Exempt Wholesale Generator Status.

Filed Date: 2/14/25.

Accession Number: 20250214-5242.

Comment Date: 5 p.m. ET 3/7/25.

Docket Numbers: EG25-156-000.

Applicants: Tibbits Energy Storage LLC.

Description: Tibbits Energy Storage LLC submits Notice of Self-Certification of Exempt Wholesale Generator Status.

Filed Date: 2/14/25.

Accession Number: 20250214-5243.

Comment Date: 5 p.m. ET 3/7/25.

Docket Numbers: EG25-157-000.

Applicants: Skeleton Creek Energy Center, LLC.

Description: Skeleton Creek Energy Center, LLC submits Notice of Self-Certification of Exempt Wholesale Generator Status.

Filed Date: 2/14/25.

Accession Number: 20250214-5244.

Comment Date: 5 p.m. ET 3/7/25.

Docket Numbers: EG25-158-000.

Applicants: Cadence Solar Energy LLC.

Description: Cadence Solar Energy LLC submits Notice of Self-Certification of Exempt Wholesale Generator Status.

Filed Date: 2/18/25.

Accession Number: 20250218-5041.

Comment Date: 5 p.m. ET 3/11/25.

Docket Numbers: EG25-159-000.

Applicants: Trade Post Solar LLC.

Description: Trade Post Solar LLC submits Notice of Self-Certification of Exempt Wholesale Generator Status.

Filed Date: 2/18/25.

Accession Number: 20250218-5043.

Comment Date: 5 p.m. ET 3/11/25.

Take notice that the Commission received the following electric rate filings:

Docket Numbers: ER20-3036-003; ER20-3037-003.

Applicants: Vopak Industrial Infrastructure Americas St. Charles, LLC, Vopak Industrial Infrastructure Americas Plaquemine, LLC.

Description: Notice of Change in Status of Vopak Industrial Infrastructure Americas Plaquemine, LLC, et al.

Filed Date: 2/14/25.

Accession Number: 20250214-5268.

Comment Date: 5 p.m. ET 3/7/25.

Docket Numbers: ER22-1606-001.

Applicants: PPL Electric Utilities Corporation, PJM Interconnection, L.L.C.

Description: American Electric Power Service Corporation submits tariff filing per 385.602: Offer of Settlement and Amendments to Sch 12 in ER22-1606 & EL21-39 to be effective 12/31/2020.

Filed Date: 2/14/25.

Accession Number: 20250214-5118.

Comment Date: 5 p.m. ET 3/7/25.

Docket Numbers: ER23-458-000.

Applicants: El Paso Electric Company.

Description: Report Filing: Termination of Service Agreement No. 381 LGIA Hecate Energy Santa Teresa LLC II to be effective N/A.

Filed Date: 2/10/25.

Accession Number: 20250210-5091.

Comment Date: 5 p.m. ET 3/3/25.

Docket Numbers: ER24-1156-002.

Applicants: Florida Power & Light Company.

Description: Compliance filing: Order Nos. 2023 and 2023-A Further Compliance Filing to be effective 4/1/2024.

Filed Date: 2/14/25.

Accession Number: 20250214-5238.

Comment Date: 5 p.m. ET 3/7/25.

Docket Numbers: ER25-1310-000.

Applicants: DATC Path 15, LLC.

Description: § 205(d) Rate Filing: Revised Appendix I in Path 15 Tariff Reflecting Updated TRR to be effective 6/12/2025.

Filed Date: 2/14/25.

Accession Number: 20250214-5192.

Comment Date: 5 p.m. ET 3/7/25.

Docket Numbers: ER25-1311-000.

Applicants: Breckinridge Wind, LLC.

Description: § 205(d) Rate Filing: Application for Market-Based Rate Authorization to be effective 4/16/2025.

Filed Date: 2/14/25.

Accession Number: 20250214-5193.

Comment Date: 5 p.m. ET 3/7/25.

Docket Numbers: ER25-1312-000.

Applicants: Cedar Bluff Wind Energy, LLC.

Description: § 205(d) Rate Filing: Application for Market-Based Rate Authorization to be effective 4/16/2025.

Filed Date: 2/14/25.

Accession Number: 20250214-5194.

Comment Date: 5 p.m. ET 3/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 18, 2025.
Carlos D. Clay,
Deputy Secretary.

[FR Doc. 2025-03015 Filed 2-24-25; 8:45 am]

BILLING CODE 6717-01-P